FEDERAL COMMUNICATIONS COMMISSION

47 CFR Part 73

[DA 02-770; MM Docket No. 01-36; RM-10047]

Radio Broadcasting Services; Jamestown, Alfred and Canaseraga, NY; and Du Bois, PA

AGENCY: Federal Communications Commission.

ACTION: Proposed rule; dismissal.

SUMMARY: At the request of Vox Allegany, LLC, the Commission dismisses the petition for rule making proposing the substitution of Channel 270B1 for Channel 270A at Jamestown, and the modification of Station WHUG(FM)'s license accordingly. To accommodate the upgrade, petitioner also proposed (a) the substitution of Channel 246A for Channel 270A at Alfred New York, and the modification of Station WZKZ(FM)'s license accordingly; (b) the substitution of Channel 270A for vacant Channel 246A at Canaseraga, New York; and (c) the modification of the reference coordinates of Station WMOU-FM, Channel 271B, Du Bois, Pennsylvania. See 66 FR 11130, February 22, 2001. A showing of continuing interest is required before a channel will be allotted. It is the Commission's policy to refrain from making an allotment to a community absent an expression of interest. Therefore, we will grant the joint request to dismiss the instant proposal.

FOR FURTHER INFORMATION CONTACT: Sharon P. McDonald, Mass Media Bureau, (202) 418-2180.

SUPPLEMENTARY INFORMATION: This is a synopsis of the Commission's Report and Order, MM Docket No. 01-36, adopted March 27, 2002, and released April 5, 2002. The full text of this Commission decision is available for inspection and copying during normal business hours in the FCC Reference Information Center (Room CY-A257), 445 12th Street, SW., Washington, DC. The complete text of this decision may also be purchased from the Commission's copy contractors, Qualex International, Portals II, 445 12th Street, SW, Room CY-B402, Washington, DC 20054.

Federal Communications Commission.
John A. Karousos,
Assistant Chief, Audio Division, Office of Broadcast License Policy, Media Bureau.

[FR Doc. 02-9378 Filed 4-17-02; 8:45 am]

BILLING CODE 6712-01-P